DEPARTMENT OF HEALTH AND HUMAN SERVICES

National Institutes of Health

Fogarty International Center; Amended Notice of Meeting

Notice is hereby given of a change in the meeting of the Fogarty International Center Advisory Board, February 25, 2013, 02:00 p.m. to February 26, 2013, 03:00 p.m., National Institutes of Health, Lawton Chiles International House, Bethesda, MD 20892 which was published in the Federal Register on February 4, 2013, 78 FR 7795.

The meeting notice is being amended to add a closed session on February 26, 2013 from 09:00 a.m. to 10:45 a.m. The open session will begin at 11:00 a.m. The meeting is partially closed to the public. Please see the Fogarty International Center home page for the schedule of upcoming meetings at: www.nih.gov/fic/about/advisory.html.

Dated: February 5, 2013.
Michelle Trout,
Program Analyst, Office of Federal Advisory Committee Policy.

[FR Doc. 2013-02942 Filed 2-8-13; 8:45 am]

BILLING CODE 4140-01-P